DEPARTMENT OF AGRICULTURE

Food Safety Inspection Service

[Docket No. 01-035N]

National Advisory Committee on Microbiological Criteria for Foods

AGENCY: Food Safety and Inspection Service, USDA.

ACTION: Notice of public meeting; request for comments.

SUMMARY: The National Advisory Committee on Microbiological Criteria for Foods (NACMCF) will meet January 22-25, 2002. This meeting replaces the NACMCF meeting originally scheduled for September 17-20, 2001. The original meeting was postponed because of the September 11, 2001 terrorist attacks.

The meeting is open to the public. The committee will discuss Salmonella performance standards in meat and poultry products; Escherichia coli O157:H7 in blade-tenderized, non-intact beef; the evaluation of hot holding temperatures; Codex “Discussion Paper on Proposed Draft Guidelines for the Validation of Food Hygiene Control Measures,” and the scientific basis for establishing safety-based “use by” date labeling for refrigerated, ready-to-eat foods.

FSIS will finalize an agenda on or before the meeting date and post it to its Internet web page.

DATES: The full Committee will meet on Wednesday, Thursday, and Friday, January 23, 24, and 25, 2002; subcommittee meetings will be held on January 22 and 23, 2002.

ADDRESSES: The meeting will be held at the Omni Shoreham Hotel at 2500 Calvert St., NW, Washington, DC 20008. Send an original and two copies of comments to the Food Safety and Inspection Service Docket Room: Docket #01-035N, Room 102 Cotton Annex Building, 300 12th Street, SW., Washington, DC 20250. Comments may also be sent by facsimile (202) 205-0381. The comments and the official transcript of the meeting, when it becomes available, will be kept in the FSIS Docket Room at the above address.

FOR FURTHER INFORMATION CONTACT: Persons interested in making a presentation, submitting technical papers, or providing comments should contact Brenda Halbrook (202) 690-6600, Fax (202) 690-6337, e-mail address: brenda.halbrook@ dchqexs1.hqnet.usda.gov, or mailing address: Food Safety and Inspection Service, Department of Agriculture, Office of Public Health and Science, Aerospace Center, Room 333, 1400 Independence Avenue, SW, Washington, DC 20250-3700. Persons requiring a sign language interpreter or other special accommodations should notify Ms. Halbrook, by January 7, 2001.

SUPPLEMENTARY INFORMATION:

Background

The NACMCF was established on March 18, 1988, in response to a recommendation of the National Academy of Sciences for an interagency approach to microbiological criteria for food, and in response to a recommendation of the U.S. House of Representatives Committee on Appropriations, as expressed in the Rural Development, Agriculture, and Related Agencies Appropriation Bill for fiscal 1988. The Charter for the NACMCF is available for viewing on the FSIS internet Web page at http://www.fsis.usda.gov/OA/programs/nacmcf_chart.htm.

The NACMCF provides scientific advice and recommendations to the Secretary of Agriculture and the Secretary of Health and Human Services on public health issues relative to the safety and wholesomeness of the U.S. food supply including development of microbiological criteria and review and evaluation of epidemiological and risk assessment data and methodologies for assessing microbiological hazards in foods. The Committee also provides advice to the Centers for Disease Control and Prevention and the Departments of Commerce and Defense. Dr. I. Kaye Wachsmuth, Deputy Administrator, Office of Public Health and Science, FSIS, is the Committee Chair, Janice F. Oliver, Deputy Director, Center for Food Safety and Applied Nutrition, Food and Drug Administration, is the Co-Chair, and Brenda Halbrook, FSIS, is the Executive Secretary.

At the January 22-25, 2002, meeting announced in this document, the Committee will

• Discuss Salmonella performance standards in meat and poultry products;

• Discuss Escherichia coli O157:H7 in blade-tenderized, non-intact beef;

• Discuss the evaluation of hot holding temperatures;

• Discuss the Codex “Discussion Paper on Proposed Draft Guidelines for the Validation of Food Hygiene Control Measures,” and

• Discuss the scientific basis for establishing safety-based “use by” date labeling for refrigerated, ready-to-eat foods.

Additional Public Notification

Public awareness of all segments of rulemaking and policy development is important. Consequently, in an effort to better ensure that minorities, women, and persons with disabilities are aware of this notice, FSIS will announce the meeting and provide copies of this Federal Register publication in the FSIS Constituent Update. FSIS provides a weekly FSIS Constituent Update, which is communicated via fax to over 300 organizations and individuals. In addition, the update is available on-line through the FSIS Web page located at http://www.fsis.usda.gov. The update is used to provide information regarding FSIS policies, procedures, regulations, Federal Register notices, FSIS public meetings, recalls, and any other types of information that could affect, or would be of interest to, our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Margaret O'K Glavin,
Acting Administrator.

[FR Doc. 02-499 Filed 1-4-02; 11:35 am]

BILLING CODE 3410-DM-P